DEPARTMENT OF ENERGY

Federal Energy Regulatory Commission

Combined Notice of Filings #1

Take notice that the Commission received the following electric rate filings:

Docket Numbers: ER10-1107-008.

Applicants: Pacific Gas and Electric Company.

Description: Notice of Non-Material Change in Status of Pacific Gas and Electric Company.

Filed Date: 2/1/19.

Accession Number: 20190201-5259.

Comments Due: 5 p.m. ET 2/22/19.

Docket Numbers: ER14-1818-018.

Applicants: Boston Energy Trading and Marketing LLC.

Description: Triennial Market Power Analysis for the Southwest Power Pool region of Boston Energy Trading and Marketing LLC.

Filed Date: 2/1/19.

Accession Number: 20190201-5244.

Comments Due: 5 p.m. ET 4/2/19.

Docket Numbers: ER15-1883-004; ER10-1836-013; ER10-1841-012; ER10-1843-012; ER10-1844-012; ER10-1845-012; ER10-1846-010; ER10-1849-016; ER10-1851-008; ER10-1852-025; ER10-1855-010; ER10-1857-009; ER10-1887-016; ER10-1890-010; ER10-1897-012; ER10-1899-010; ER10-1905-012; ER10-1907-011; ER10-1915-009; ER10-1918-012; ER10-1920-018; ER10-1925-012; ER10-1927-012; ER10-1928-018; ER10-1930-008; ER10-1931-009; ER10-1932-009; ER10-1935-009; ER10-1950-012; ER10-1952-016; ER10-1961-016; ER10-1962-010; ER10-1963-009; ER10-1964-012; ER10-1966-009; ER10-2005-012; ER10-2006-013; ER10-2348-009; ER10-2551-011; ER11-2160-010; ER11-26-012; ER11-2642-011; ER11-3635-010; ER12-1228-018; ER12-2225-008; ER12-2226-008; ER12-2227-016; ER12-569-017; ER13-1991-009; ER13-1992-009; ER13-2112-006; ER13-712-018; ER13-752-009; ER14-2138-005; ER15-1418-004; ER15-1925-010; ER15-2101-005; ER15-2477-004; ER15-2582-003; ER15-2601-003; ER15-2676-009; ER16-1354-004; ER16-1672-007; ER16-2190-006; ER16-2191-006; ER16-2275-006; ER16-2276-006; ER16-2453-007; ER16-632-002; ER16-90-004; ER16-91-004; ER17-2152-003; ER17-2340-001; ER17-822-002; ER17-823-002; ER18-1534-002; ER18-1771-002; ER18-1863-001; ER18-1952-004; ER18-1978-001; ER18-2003-002; ER18-2118-002; ER18-2246-001; ER18-241-001; ER18-882-002.

Applicants: Adelanto Solar, LLC, Adelanto Solar II, LLC, Armadillo Flats Wind Project, LLC, Ashtabula Wind, LLC, Ashtabula Wind II, LLC, Ashtabula Wind III, LLC, Baldwin Wind, LLC, Bayswater Peaking Facility, LLC, Blackwell Wind, LLC, Blythe Solar 110, LLC, Blythe Solar II, LLC, Breckinridge Wind Project, LLC, Brady Interconnection, LLC, Brady Wind, LLC, Brady Wind II, LLC, Butler Ridge Wind Energy Center, LLC, Carousel Wind Farm, LLC, Casa Mesa Wind, LLC, Cedar Bluff Wind, LLC, Chaves County Solar, LLC, Cimarron Wind Energy, LLC, Coolidge Solar I, LLC, Cottonwood Wind Project, LLC, Crystal Lake Wind, LLC, Crystal Lake Wind II, LLC, Crystal Lake Wind III, LLC, Day County Wind, LLC, Desert Sunlight 250, LLC, Desert Sunlight 300, LLC, East Hampton Energy Storage Center, LLC, Elk City Renewables II, LLC, Elk City Wind, LLC, Energy Storage Holdings, LLC, Ensign Wind, LLC, ESI Vansycle Partners, L.P., Florida Power & Light Company, FPL Energy Burleigh County Wind, LLC, FPL Energy Cape, LLC, FPL Energy Cowboy Wind, LLC, FPL Energy Green Power Wind, LLC, FPL Energy Hancock County Wind, LLC, FPL Energy Illinois Wind, LLC, FPL Energy Montezuma Wind, LLC, FPL Energy Mower County, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle, L.L.C, FPL Energy Wyman, LLC, FPL Energy Wyman IV, LLC, Garden Wind, LLC, Genesis Solar, LLC, Golden Hills Interconnection, LLC, Golden Hills North Wind, LLC, Golden Hills Wind, LLC, Golden West Power Partners, LLC, Gray County Wind Energy, LLC, Green Mountain Storage, LLC, Gulf Power Company, LLC, Hatch Solar Energy Center I, LLC, Hawkeye Power Partners, LLC, Heartland Divide Wind Project, LLC, High Lonesome Mesa, LLC, High Majestic Wind Energy Center, LLC, High Majestic Wind II, LLC, High Winds, LLC, Jamaica Bay Peaking Facility, LLC, Kingman Wind Energy I, LLC, Kingman Wind Energy II, LLC, Lake Benton Power Partners II, LLC, Langdon Renewables, LLC, Limon Wind, LLC, Limon Wind II, LLC, Limon Wind III, LLC, Live Oak Solar, LLC, Logan Wind Energy LLC, Lorenzo Wind, LLC, Luz Solar Partners Ltd., III, Luz Solar Partners Ltd., IV, Luz Solar Partners Ltd., V, Mammoth Plains Wind Project, LLC, Manuta Creek Solar, LLC, Marshall Solar, LLC, McCoy Solar, LLC, Meyersdale Storage, LLC, Minco Wind, LLC, Minco Wind II, LLC, Minco Wind III, LLC, Minco IV & V Interconnection, LLC, Minco Wind Interconnection Services, LLC, Montauk Energy Storage Center, LLC, Mountain View Solar, LLC, NEPM II, LLC, New Mexico Wind, LLC, NextEra Blythe Solar Energy Center, LLC, NextEra Energy Bluff Point, LLC, NextEra Energy Duane Arnold, LLC, NextEra Energy Montezuma II Wind, LLC, NextEra Energy Point Beach, LLC, NextEra Energy Marketing, LLC, NextEra Energy Seabrook, LLC, NextEra Energy Services Massachusetts, LLC, Northeast Energy Associates, A Limited Partnership, Ninnescah Wind Energy, LLC, North Jersey Energy Associates, A Limited Partnership, North Sky River Energy, LLC, Northern Colorado Wind Energy, LLC, Oleander Power Project, Limited Partnership, Oliver Wind III, LLC, Osborn Wind Energy, LLC, Osceola Windpower, LLC, Osceola Windpower II, LLC, Palo Duro Wind Energy, LLC, Palo Duro Wind Interconnection Services, LLC, Peetz Logan Interconnect, LLC, Peetz Table Wind Energy, LLC, Pegasus Wind, LLC, Perrin Ranch Wind, LLC, Pheasant Run Wind, LLC, Pima Energy Storage System, LLC, Pinal Central Energy Center, LLC, Pratt Wind, LLC, Red Mesa Wind, LLC, River Bend Solar, LLC, Roswell Solar, LLC, Rush Springs Wind Energy, LLC, Seiling Wind, LLC, Seiling Wind II, LLC, Seiling Wind Interconnection Services, LLC, Silver State Solar Power South, LLC, Shafter Solar, LLC, Sky River LLC, Stanton Clean Energy, LLC, Steele Flats Wind Project, LLC, Story Wind, LLC, Stuttgart Solar, LLC, Titan Solar, LLC, Tuscola Bay Wind, LLC, Tuscola Wind II, LLC, Vasco Winds, LLC, Wessington Wind Energy Center, LLC, Westside Solar, LLC, White Oak Energy LLC, White Oak Solar, LLC, White Pine Solar, LLC, Whitney Point Solar, LLC, Wildcat Ranch Wind Project, LLC, Wilton Wind II, LLC, Windpower Partners 1993, LLC.

Description: Notice of Non-Material Change in Status of the NextEra MBR Sellers (Part 1).

Filed Date: 1/31/19.

Accession Number: 20190131-5383.

Comments Due: 5 p.m. ET 2/21/19.

Docket Numbers: ER18-2440-002.

Applicants: Southern California Edison Company.

Description: Compliance filing: Compliance Filing—Revisions to Transmission Formula Rate ER18-2440 to be effective 11/16/2018.

Filed Date: 2/1/19.

Accession Number: 20190201-5171.

Comments Due: 5 p.m. ET 2/22/19.

Docket Numbers: ER19-481-001.

Applicants: LMBE Project Company LLC.

Description: Tariff Amendment: Response to Request for Additional Info and Request for Confidential Treatment to be effective 12/4/2018.

Filed Date: 2/4/19.

Accession Number: 20190204-5204.

Comments Due: 5 p.m. ET 2/25/19.

Docket Numbers: ER19-971-000.

Applicants: Midcontinent Independent System Operator, Inc., ALLETE, Inc.

Description: § 205(d) Rate Filing: 2019-02-01_SA 725 MP-Glen Ullin (Bison 6) LGIA to be effective 2/2/2019.

Filed Date: 2/1/19.

Accession Number: 20190201-5208.

Comments Due: 5 p.m. ET 2/22/19.

Docket Numbers: ER19-972-000.

Applicants: Pacific Gas and Electric Company.

Description: § 205(d) Rate Filing: Amendment to PWRPA IA Appendix B and Filing of Del Valle WDT Service Agreement to be effective 2/4/2019.

Filed Date: 2/1/19.

Accession Number: 20190201-5210.

Comments Due: 5 p.m. ET 2/22/19.

Docket Numbers: ER19-973-000.

Applicants: Mid-Atlantic Interstate Transmission, LLC, PJM Interconnection, L.L.C.

Description: § 205(d) Rate Filing: MAIT submits three ECSAs, Service Agreement Nos. 5203, 5204, 5205 to be effective 4/7/2019.

Filed Date: 2/4/19.

Accession Number: 20190204-5131.

Comments Due: 5 p.m. ET 2/25/19.

Docket Numbers: ER19-974-000.

Applicants: Duke Energy Carolinas, LLC.

Description: § 205(d) Rate Filing: DEC-Southern Interconnection Agreement (RS No. 292) Concurrence Filing to be effective 1/1/2019.

Filed Date: 2/4/19.

Accession Number: 20190204-5156.

Comments Due: 5 p.m. ET 2/25/19.

Docket Numbers: ER19-975-000.

Applicants: Duke Energy Florida, LLC.

Description: § 205(d) Rate Filing: DEF-Southern Interconnection Agreement (RS No. 111) Concurrence Filing to be effective 1/1/2019.

Filed Date: 2/4/19.

Accession Number: 20190204-5157.

Comments Due: 5 p.m. ET 2/25/19.

Docket Numbers: ER19-976-000.

Applicants: Avista Corporation.

Description: Tariff Cancellation: Avista Corp Cancellation of Parallel Operation and Construction Agreement to be effective 2/5/2019.

Filed Date: 2/4/19.

Accession Number: 20190204-5162.

Comments Due: 5 p.m. ET 2/25/19.

Docket Numbers: ER19-977-000.

Applicants: Midcontinent Independent System Operator, Inc.

Description: § 205(d) Rate Filing: 2019-02-04_SA 3230 NSP-Deuel Harvest-NSP MPFCA (J460 J526 Hazel Creek) to be effective 1/18/2019.

Filed Date: 2/4/19.

Accession Number: 20190204-5163.

Comments Due: 5 p.m. ET 2/25/19.

Docket Numbers: ER19-978-000.

Applicants: The Connecticut Light and Power Company.

Description: Initial rate filing: NRG Preliminary Design and Engineering Agreement to be effective 2/4/2019.

Filed Date: 2/4/19.

Accession Number: 20190204-5195.

Comments Due: 5 p.m. ET 2/25/19.

Docket Numbers: ER19-979-000.

Applicants: Summer Energy Midwest, LLC.

Description: Compliance filing: Summer Energy Notice of Succession and Tariff Cancellation Request to be effective 10/31/2018.

Filed Date: 2/4/19.

Accession Number: 20190204-5200.

Comments Due: 5 p.m. ET 2/25/19.

Docket Numbers: ER19-980-000.

Applicants: The Connecticut Light and Power Company.

Description: Tariff Cancellation: Cancellation of Cricket Valley EPCOM Agreement to be effective 2/17/2019.

Filed Date: 2/4/19.

Accession Number: 20190204-5203.

Comments Due: 5 p.m. ET 2/25/19.

Docket Numbers: ER19-981-000.

Applicants: South Carolina Electric & Gas Company.

Description: § 205(d) Rate Filing: IA Between Southern Companies and SCEG to be effective 1/1/2019.

Filed Date: 2/4/19.

Accession Number: 20190204-5219.

Comments Due: 5 p.m. ET 2/25/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 4, 2019.
Kimberly D. Bose,
Secretary.

[FR Doc. 2019-02006 Filed 2-11-19; 8:45 am]

BILLING CODE 6717-01-P